DEPARTMENT OF HOUSING AND URBAN DEVELOPMENT

[Docket No. FR-5727-N-02]

Hurricane Sandy Rebuilding Task Force—Rebuild-by-Design; Announcement of Selection of Design Teams

AGENCY: Hurricane Sandy Task Force, HUD.

ACTION: Notice.

SUMMARY: In June 2013, the Hurricane Sandy Task Force launched Rebuild by Design, a multi-stage regional design competition to promote resilience for the Sandy-affected region. This notice announces the design teams selected under the competition.

FOR FURTHER INFORMATION CONTACT: Scott Davis at rebuildbydesign@hud.gov.

SUPPLEMENTARY INFORMATION: In an effort to promote resilience for the Hurricane Sandy-affected region, the Hurricane Sandy Task Force initiated a multi-stage regional design competition, called Rebuild by Design. The goals of the competition are to attract highly experienced building design teams, promote innovation by developing regionally-scalable but locally-contextual solutions that increase resilience in the region, and implement selected proposals with both public and private funding dedicated to this effort.

The Rockefeller Foundation is the lead funding partner for the competition and will provide support for the analysis and design process. The National Endowment for the Arts (NEA) served as a special partner, providing critical expertise and guidance to launch Rebuild by Design and select the 10 teams. NEA has a history of supporting and facilitating design competitions and NEA's involvement helped ensure the success of the launch of the competition. HUD will incentivize the implementation of the selected designs using funds made available through the Community Development Block Grant Disaster Recovery (CDBG-DR) program as well as other public and private funds.

Rebuild by Design focuses on the following areas: Coastal communities, high-density urban environments, ecological networks and a fourth category that will include other innovative questions and proposals. Additionally, the competition has a region-wide focus to help provide solutions to problems that are larger or more complex than individual towns have the capacity to solve themselves. The regional focus will also help provide a better understanding of the many interconnected systems (infrastructure, ecological, climate, economic and others) in the Sandy-affected region. The design teams selected will start with regional analyses to understand major vulnerabilities and then, through the collaborative design process begin to focus on local implementation and key projects for improving the region's resilience. Applications for the competition were due July 19, 2013. The details of the competition can be found at http://portal.hud.gov/hudportal/HUD?src=/sandyrebuilding/rebuildbydesign.

Over 140 potential teams from more than 15 countries submitted proposals, representing the top engineering, architecture, design, landscape architecture and planning firms as well as research institutes and universities worldwide.

The 10 design teams selected are the following:

• Interboro Partners with the New Jersey Institute of Technology Infrastructure Planning Program; TU Delft; Project Projects; RFA Investments; IMG Rebel; Center for Urban Pedagogy; David Rusk; Apex; Deltares; Bosch Slabbers; H+N+S; and Palmbout Urban Landscapes.

• PennDesign/OLIN with PennPraxis, Buro Happold, HR&A Advisors, and E-Design Dynamics.

• WXY architecture + urban design/West 8 Urban Design & Landscape Architecture with ARCADIS Engineering; Dr. Alan Blumberg, Stevens Institute, Kate John Alder, Rutgers University; Maxine Griffith; William Morrish, Parsons the New School for Design; Dr. Orrin Pilkey, Duke University; Kei Hayashi, BJH Advisors; Mary Edna Fraser; and Yeju Choi.

• Office of Metropolitan Architecture with Royal Haskoning DHV; Balmori Associaties; R/GA; and HR&A Advisors.

• HR&A Advisors with Cooper, Robertson, & Partners; Grimshaw; Langan Engineering; W Architecture; Hargreaves Associates; Alamo Architects; Urban Green Council; Ironstate Development; New City America.

• SCAPE/LANDSCAPE ARCHITECTURE with Parsons Brinckerhoff; SeARC Ecological Consulting; Ocean and Coastal Consultants; The New York Harbor School; Phil Orton/Stevens Institute; Paul Greenberg; LOT-EK; and MTWTF.

• Massachusetts Institute of Technology Center for Advanced Urbanism and the Dutch Delta Collaborative by ZUS; with De Urbanisten; Deltares; 75B; and Volker Infra Design.

• Sasaki Associates with Rutgers University and ARUP.

• Bjarke Ingels Group with One Architecture; Starr Whitehouse; James Lima Planning & Development; Green Shield Ecology; Buro Happold; AEA Consulting; and Project Projects.

• unabridged Architecture, Mississippi State University Gulf Coast Community Design Studio, and Waggonner and Ball Architects.

Information on the selection of the design teams is also provided on HUD's Web site at: http://portal.hud.gov/hudportal/HUD?src=/press/press_releases_media_advisories/2013/HUDNo.13-121.

Dated: August 20, 2013.
Laurel Blatchford,
Executive Director, Hurricane Sandy Rebuilding Task Force.

[FR Doc. 2013-20631 Filed 8-22-13; 8:45 am]

BILLING CODE 4210-67-P